DEPARTMENT OF TRANSPORTATION

Federal Aviation Administration

Land Release for Penn Yan Airport

AGENCY: Federal Aviation Administration, DOT.

ACTION: Notice, request for public comment.

SUMMARY: The Federal Aviation Administration is requesting public comment on the Penn Yan Airport (PEO), Penn Yan, New York, Notice of Proposed Release from Aeronautical Use of approximately 0.069 +/− acres of airport property, to allow for non-aeronautical development.

The parcel is located on the northwest corner of the Penn Yan Airport. The tract currently consists of 0.069 +/− acres of land and it is currently vacant. The requested release is for the purpose of permitting the airport owner (Yates County) to grant an easement of 0.069 +/−acres for ingress/egress to a boat storage and maintenance facility to be constructed by Land and Sea Properties on airports lands previously released. The proposed 50′ +/− wide by 60.11′ +/−easement is required to comply with the Town of Milo requirement to provide emergency equipment ingress/egress to the Land and Sea Properties boat storage and maintenance facility from the Penn Yan Airport access road.

Documents reflecting the Sponsor's request are available, by appointment only, for inspection at the Office of the Yates County Legislature and the FAA New York Airport District Office.

DATES: Comments must be received by September 27, 2013.

ADDRESSES: Comments on this application may be mailed or delivered to the FAA at the following address: Steven M. Urlass, Manager, FAA New York Airports District Office, 600 Old Country Road, Suite 446, Garden City, New York 11530. In addition, a copy of any comments submitted to the FAA must be mailed or delivered to Mr. H. Taylor Fitch, Chairman, Yates County Legislature, at the following address: 417 Liberty Street, Penn Yan, NY. 14527.

FOR FURTHER INFORMATION CONTACT: Steven M. Urlass, Manager, New York Airports District Office, 600 Old Country Road, Suite 446, Garden City, New York 11530; telephone (516) 227-3803; FAX (516) 227-3813; email steve.urlass@faa.gov.

SUPPLEMENTARY INFORMATION: Section 125 of the Wendell H. Ford Aviation Investment and Reform Act for the 21st Century (AIR21) requires the FAA to provide an opportunity for public notice and comment before the Secretary may waive a Sponsor's Federal obligation to use certain airport land for aeronautical use.

Issued in Garden City, New York on August 21, 2013.
Steven M. Urlass,
Manager, New York, Airports District Office, Eastern Region.

[FR Doc. 2013-21002 Filed 8-27-13; 8:45 am]

BILLING CODE 4910-13-P